DEPARTMENT OF ENERGY

[EERE-2018-16577]

Understanding Catalyst Production and Development Needs at National Laboratories

AGENCY: Bioenergy Technologies Office, Office of Energy Efficiency and Renewable Energy, Department of Energy.

ACTION: Request for information; reopening of public comment period.

SUMMARY: This document reopens the public comment period for submitting comments, data and information on the RFI entitled “Understanding Catalyst Production and Development Needs at National Laboratories” published on August 2, 2018. The public comment period closed on September 14, 2018.

DATES: U.S. Department of Energy (DOE) is reopening the comment period for “Understanding Catalyst Production and Development Needs at National Laboratories” published on August 2, 2018. The public comment period closed on September 14, 2018 and is reopened for 15 days until October 22, 2018.

ADDRESSES: Interested parties are to submit comments electronically to CustomCatalystRFI@ee.doe.gov. Responses must be provided as attachments to an email. Include “Understanding Catalyst Production and Development RFI” as the subject of the email. It is recommended that attachments with file sizes exceeding 25MB be compressed (i.e., zipped) to ensure message delivery. Responses must be provided as a Microsoft Word (.docx) attachment to the email, and 12 point font, 1 inch margins. Only electronic responses will be accepted. The complete RFI document is located at https://eere-exchange.energy.gov/.

Docket: For access to the docket to read background documents, or comments received, go to the Federal eRulemaking Portal at http://www.regulations.gov.

FOR FURTHER INFORMATION CONTACT: Questions may be addressed to Jim Spaeth, (720) 356-1784, or CustomCatalystRFI@ee.doe.gov.

SUPPLEMENTARY INFORMATION: On August 2, 2018 (83 FR 37806), the DOE posted on its website a RFI to solicit feedback from industry and the public (including but not limited to research organizations, manufacturing organizations, catalyst manufacturers, and catalyst research consortia), academia, research laboratories, government agencies, and other biofuels and bioproducts stakeholders on “catalyst productions capability for biochemical and thermochemical processes.” Specifically, DOE seeks information to help identify and understand additional areas of research, capabilities, and yet-to be-addressed challenges pertinent to production scale-up challenges (typically in multi-kilogram quantities of novel catalysts used in technology development and engineering solutions for the efficient conversion of lignocellulosic, waste, and algal feedstocks to produce biofuels and bioproducts). The RFI provided for the written submission of comments by September 14, 2018. By this notice, DOE is reopening the public comment period to all additional time for the public to provide data responsive to DOE's detailed inquiries regarding the RFI.

DOE has determined that a reopening of the public comment period is appropriate to allow interested parties additional time to submit comments for DOE's consideration. Thus, DOE is reopening the comment period by 15 days, until October 22, 2018. DOE will consider any comments received by midnight of October 22, 2018 to be timely submitted.

Signed in Washington, DC, on October 1, 2018.
Jonathan Male,
Director, Bioenergy Technologies Office.

[FR Doc. 2018-21726 Filed 10-4-18; 8:45 am]

BILLING CODE 6450-01-P